DEPARTMENT OF COMMERCE

National Oceanic and Atmospheric Administration

Draft Revised Management Plan for the Narragansett Bay National Estuarine Research Reserve

AGENCY: Office for Coastal Management, National Ocean Service, National Oceanic and Atmospheric Administration, Department of Commerce.

ACTION: Request for comments.

SUMMARY: The National Oceanic and Atmospheric Administration (NOAA) is soliciting comments from the public regarding a proposed revision of the management plan for the Narragansett Bay National Estuarine Research Reserve (NBNERR). A management plan provides a framework to guide a reserve's programs, track progress toward meeting its goals, and identify potential opportunities or changes in direction. It is also used to guide programmatic evaluations. Management plan revisions are required at least every five years. This draft, revised management plan is intended to replace the NBNERR management plan approved in 2010.

DATES: Comments must be received at the appropriate address (see ADDRESSES) on or before January 2, 2025.

ADDRESSES: The draft revised management plan can be downloaded or viewed at: http://nbnerr.org/wp-content/uploads/2024/08/NBNERR_ManagementPlan_DRAFT_PublicComment.pdf. It is also available by sending a written request to the point of contact identified below (see FOR FURTHER INFORMATION CONTACT).

You may submit comments by email to claudia.mazur@noaa.gov. Include “Comments on draft Narragansett Bay National Estuarine Research Reserve Management Plan” in the subject line of the message. NOAA will accept anonymous comments; however, the written comments NOAA receives are considered part of the public record, and the entirety of the comment, including the name of the commenter, email address, attachments, and other supporting materials, will be publicly accessible. Sensitive, personally identifiable information, such as account numbers and Social Security numbers, should not be included. Comments that are not related to the management plan for NBNERR, or that contain profanity, vulgarity, threats, or other inappropriate language, will not be considered.

FOR FURTHER INFORMATION CONTACT: Claudia Mazur, claudia.mazur@noaa.gov, or Betsy Nicholson, betsy.nicholson@noaa.gov, (617-894-0197) of NOAA's Office for Coastal Management.

SUPPLEMENTARY INFORMATION: Pursuant to 15 CFR 921.33(c), Rhode Island must revise the management plan for NBNERR at least every five years. If approved by NOAA, the revised management plan will replace the plan previously approved in 2010.

Management plans outline a reserve's strategic goals and objectives; administrative structure; programs for conducting research and monitoring, education, and training; resource protection, restoration, and manipulation plans; public access and visitor use plans; consideration for future land acquisition; and facility development to support reserve operations. In particular, this draft revised plan for NBNERR provides information on new staff positions and new staff hired, and describes the reserve's updated position within the Rhode Island Department of Environmental Management.

Since the last management plan, NBNERR has secured a land acquisition and expanded its boundary. Additionally, the updated plan describes strategic goals and objectives and identifies topic areas where additional planning will be conducted to identify and develop new goals and objectives over the next five years. The revised management plan, once approved, would serve as the guiding document for the reserve for the next five years.

NOAA's Office for Coastal Management analyzes the environmental impacts of the proposed approval of this management plan in accordance with the National Environmental Policy Act of 1969 (NEPA), as amended, 42 U.S.C. 4321 et seq., and the Council on Environmental Quality Regulations for Implementing the Procedural Provisions of NEPA (40 CFR 1500-1508 (2022). The public is invited to comment on the draft revised management plan. NOAA will take these comments into consideration when deciding whether to approve the revised management plan in whole or in part.

Authority: 16 U.S.C. 1451 et seq.; 15 CFR 921.33.

Keelin S. Kuipers,
Deputy Director, Office for Coastal Management, National Ocean Service, National Oceanic and Atmospheric Administration.

[FR Doc. 2024-28208 Filed 11-29-24; 8:45 am]

BILLING CODE 3510-08-P